DEPARTMENT OF TRANSPORTATION

Federal Highway Administration

Notice of Final Federal Agency Actions on the Portageville Bridge Project, Livingston and Wyoming Counties, New York

AGENCY: Federal Highway Administration (FHWA), DOT.

ACTION: Notice of Limitation on Claims for Judicial Review of Actions by FHWA and Other Federal Agencies.

SUMMARY: This notice announces actions taken by FHWA and other Federal agencies that are final within the meaning of 23 U.S.C. 139(1)(1). The actions relate to the Portageville Bridge Project. Those actions grant approvals for the project.

DATES: By this notice, FHWA is advising the public of final agency actions subject to 23 U.S.C. 139(1)(1). A claim seeking judicial review ofthe Federal agency actions on the railway bridge project will be barred unless the claim is filed on or before June 22, 2015. If the Federal law that authorizes judicial review of a claim provides a time period of less than 150 days for filing such claim, then that shorter time period still applies.

FOR FURTHER INFORMATION CONTACT: Jonathan D. McDade, Division Administrator, Federal Highway Administration, Leo W. O'Brien Federal Building, Albany, New York 12207, Telephone (518) 431-4127.

SUPPLEMENTARY INFORMATION: Notice is hereby given that FHWA and other Federal agencies have taken final agency actions by issuing approvals for the following railway bridge project in the State of New York: Portageville Bridge Project, Towns of Portage and Genesee Falls, Livingston and Wyoming Counties, New York. The purpose of the Project is to address the existing deficiencies at the Portageville Bridge on the Southern Tier rail freight route across the Genesee River by providing a modern rail crossing of the Genesee River at its current location that is capable of carrying current industry standard freight rail loads, to the greatest degree possible meeting Federal Railroad Administration (FRA) Class 4 speeds, while reducing ongoing maintenance efforts and costs. The Project is needed in order for Norfolk Southern, the Project Sponsor, to continue safe, reliable, and efficient rail operations on the Southern Tier route. These operations are critical to the economic viability and growth of the Southern Tier and other affected areas of New York.

The actions by the Federal agencies, and the laws under which such actions were taken, are described in the FHWA Final Environmental Impact Statement (FEIS) for the project, approved by FHWA in the Record ofDecision (ROD) issued on December 29, 2014, and in other documents in the FHWA administrative record. The FEIS, ROD, and other documents in the FHWA administrative record file are available by contacting the FHWA at the addresses provided above. The FEIS and ROD can be viewed and downloaded from the project Web site at https://www.dot.ny.gov/portagevillebridge. This notice applies to all Federal agency decisions as of the issuance date ofthis notice and all laws under which such actions were taken, including but not limited to:

1. General Environmental Statues: National Environmental Policy Act (42 U.S.C. 4321-4355); Economic, social, and environmental effects (23 U.S.C. 109(h)); Uniform Relocation Assistance and Real Property Acquisition Policies Act of 1970 (42 U.S.C. Chapter 61 and 49 CFR 24); Public Hearings (23 U.S.C. 128).

2. Air: Clean Air Act (42 U.S.C. 7506(c) and 40 CFR part 93); Safe, Efficient Use, and Preservation ofthe Navigable Airspace (14 CFR part 77); Congestion Mitigation and Air Quality Improvement Program (23 U.S.C. 149).

3. Noise: Standards (23 U.S.C. 109(i)).

4. Land: Section 4(f) ofthe Department of Transportation Act of 1966 (49 U.S.C. 303 and 23 CFR 774); Farmland Protection Policy Act (7 U.S.C. 4201—4209); Land and Water Conservation Fund Act of 1965 (16 U.S.C. 4601-4-4601-11)

5. Wildlife: Endangered Species Act (16 U.S.C. 1531-1544 and 50 CFR 402); Fish and Wildlife Coordination Act (16 U.S.C. 661-667(d)); Bald and Golden Eagle Protection Act (16 U.S.C. 668-668(c)).

6. Historic and Cultural Resources: Section 106 ofthe National Historic Preservation Act of 1966, as amended (16 U.S.C. 470 and 36 CFR part 800).

7. Social and Economic: Interstate Commerce Commission Termination Act of 1995 (49 U.S.C. 10501), the Federal Railway Safety Act of 1970 (49 U.S.C. 20101 et seq.).

8. Wetlands and Water Resources: Safe Drinking Water Act (42 U.S.C. 300(f)-3000)(6)); Federal Water Pollution Control Act of 1972, as amended by the Clean Water Act of 1977 & 1987 (33 U.S.C. 1251-1387); National Wild and Scenic Rivers Act of 1968 (16 U.S.C. 1271-1287) and Genesee River Protection Act of 1989 (16 U.S.C. 1276(a)); Rivers and Harbors Appropriation Act of 1899 (33 U.S.C. 401).

9. Hazardous Materials: Comprehensive Environmental Response, Compensation, and Liability Act (42 U.S.C. 9601-9675).

10. Executive Orders: E.O. 11990 Protection of Wetlands; E.O. 12898 Environmental Justice; E.O. 13112 Invasive Species; E.O. 11988 of 1977 Floodplains.

(Catalog of Federal Domestic Assistance Program Number 20.205, Highway Planning and Construction. The regulations implementing Executive Order 12372 regarding intergovernmental consultation on Federal programs and activities apply to this program.)

Authority: 23 U.S.C. 139(1)(1)

Jonathan D. McDade,
Division Administrator, Albany NY.

[FR Doc. 2015-00986 Filed 1-22-15; 8:45 am]

BILLING CODE 4910-22-P